DEPARTMENT OF ENERGY

Federal Energy Regulatory Commission

[Docket No. ER02-2115-000]

PJM Interconnection, L.L.C.; Notice of Filing

June 21, 2002.

Take notice that on June 18, 2002 PJM Interconnection, L.L.C. (PJM), submitted for filing an executed interim interconnection service agreement between PJM and Conectiv Mid-Merit, Inc. (CMM) and an executed interconnection service agreement between PJM and Conectiv Bethlehem, Inc. (CBI).

PJM requests a waiver of the Commission's 60-day notice requirement to permit an October 9, 2001 effective date for the interim interconnection service agreement with CMM and an April 25, 2002 effective date for the interconnection service agreement with CBI, as agreed to by the parties. Copies of this filing were served upon each of the parties to the agreements and the state regulatory commissions within the PJM region.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: July 9, 2002.

Linwood A. Watson, Jr.,
Deputy Secretary.

[FR Doc. 02-16573 Filed 7-01-02; 8:45 am]

BILLING CODE 6717-01-P